FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping and Disclosure Requirements Associated with CFPB's Regulation Z (FR Z; OMB No. 7100-0199).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR Z.

Final Approval under OMB Delegated Authority of the Extension for Three Years, Without Revision, of the Following Information Collection

Collection title: Recordkeeping and Disclosure Requirements Associated with CFPB's Regulation Z.

Collection identifier: FR Z.

OMB control number: 7100-0199.

General description of collection: The Truth in Lending Act (TILA) and Regulation Z require creditors to provide consumers with disclosures about the costs, terms, and related information regarding a wide range of credit products for personal, family, or household purposes. Depending on the credit product, required disclosures include information that must be provided at the time of the consumer's application for credit, at consummation (for closed-end credit) or account-opening (for open-end credit), and throughout the term of the loan. The TILA and Regulation Z also contain rules concerning recordkeeping and credit advertising.

The FR Z is the Board's information collection associated with the Consumer Financial Protection Bureau's (CFPB's) Regulation Z. FR Z is used to promote the informed use of credit by consumers for personal, family, or household purposes by requiring these disclosures about the terms and costs of these products, as well as ensuring that consumers are provided with timely information on the nature and costs of the residential real estate settlement process.

Frequency: Event-generated.

Respondents: State member banks with assets of $10 billion or less that are not affiliated with an insured depository institution with assets over $10 billion (irrespective of the consolidated assets of any holding company); non-depository affiliates of such state member banks; and non-depository affiliates of bank holding companies that are not affiliated with an insured depository institution with assets over $10 billion.

Total estimated number of respondents: 3,695.

Total estimated annual burden hours: 387,079.

Current actions: On June 7, 2024, the Board published a notice in the Federal Register (89 FR 48645) requesting public comment for 60 days on the extension, without revision, of the FR Z. The comment period for this notice expired on August 6, 2024. The Board did not receive any comments.

Board of Governors of the Federal Reserve System, October 23, 2024.
Benjamin W. McDonough,
Deputy Secretary and Ombuds of the Board.

[FR Doc. 2024-25039 Filed 10-28-24; 8:45 am]

BILLING CODE 6210-01-P